DEPARTMENT OF TRANSPORTATION

Office of the Secretary

Notice of Applications for Certificates of Public Convenience and Necessity and Foreign Air Carrier Permits Filed Under Subpart B (Formerly Subpart Q) During the Week Ending July 27, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-21841.

Date Filed: July 24, 2007.

Due Date for Answers, Conforming Applications, or Motion to Modify Scope: August 14, 2007.

Description: Application of Comlux Aviation AG, (“Comlux Aviation”) requesting an exemption and an amended foreign air carrier permit authorizing Comlux Aviation to engage in charter foreign air transportation of persons, property and mail to the full extent permitted by the U.S.-Switzerland open skies agreement using large aircraft.

Docket Number: OST-2007-28867.

Date Filed: July 26, 2007.

Due Date for Answers, Conforming Applications, or Motion to Modify Scope: August 16, 2007.

Description: Application of Pinnacle Airlines, Inc., requesting a certificate of public convenience and necessity to engage in scheduled interstate air transportation of persons, property, and mail between the United States and Canada.

Docket Number: OST-2007-28868.

Date Filed: July 26, 2007.

Due Date for Answers, Conforming Applications, or Motion to Modify Scope: August 16, 2007.

Description: Application of Pinnacle Airlines, Inc., requesting a certificate of public convenience and necessity to engage in scheduled foreign air transportation of persons, property, and mail from points in the United States to a point or points in Canada.

Docket Number: OST-2006-26328.

Date Filed: July 26, 2007.

Due Date for Answers, Conforming Applications, or Motion to Modify Scope: August 16, 2007.

Description: Application of VistaJet Luftfahrtunternehmen GmbH, (“VistaJet”) requesting an exemption and an amended foreign air carrier permit Authorizing VistaJet to conduct the following services using small aircraft, in addition to the charter services authorized under its existing foreign air carrier permit, as of March 30, 2008: (i) Charter foreign air transportation of persons, property and mail from any point or points behind any Member State of the European Union, via any point or points in any EU Member State and via intermediate points, to any point or points in the United States and beyond; (ii) charter foreign air transportation of persons, property and mail between any point or points in the United States and any point or points in any member of the European Common Aviation Area (“ECAA”); (iii) other charters; and (iv) charter transportation authorized by any additional route rights made available to European Community carriers in the future, to the extent permitted by VistaJet's homeland license on file with the Department.

Docket Number: OST-2007-28865.

Date Filed: July 27, 2007.

Due Date for Answers, Conforming Applications, or Motion to Modify Scope: August 17, 2007.

Description: Application of Metropix UK LLP, (“Metropix”) requesting an exemption and an amended foreign air carrier permit authorizing Metropix to conduct the following charter services to engage in air charter transportation of persons and property: (i) Between any point or points behind any European Community Member State via any point(s) in the European Community Member States and intermediate points to any point(s) in the United States and beyond; (ii) charter foreign air transportation of persons and property between any point(s) in the United States and any point(s) in the European Common Aviation Area; and (iii) subject to the prior approval requirements, between any point or points in the United States and any point or points not in the United Kingdom or the United States.

Docket Number: OST-2007-28875.

Date Filed: July 27, 2007.

Due Date for Answers, Conforming Applications, or Motion to Modify Scope: August 17, 2007.

Description: Joint Application of Cargo 360, Inc. (“Cargo”) and Southern Air Inc. (”Southern”), requesting approval of the de facto transfer of certain international certificate authority held by Southern.

Renee V. Wright,
Program Manager, Docket Operations, Federal Register Liaison.

[FR Doc. E7-17536 Filed 9-4-07; 8:45 am]

BILLING CODE 4910-9X-P